DEPARTMENT OF EDUCATION

Applications for New Awards; Rehabilitation Training: Rehabilitation Long-Term Training Program—Vocational Rehabilitation Counseling

AGENCY: Office of Special Education and Rehabilitative Services, Department of Education.

ACTION: Applications for New Awards; extension of the application period.

SUMMARY: On November 5, 2013, we published in the Federal Register a notice inviting applications for new awards under the Rehabilitation Training: Rehabilitation Long-Term Training Program—Vocational Rehabilitation Counseling competition. That notice established a February 3, 2014, deadline for the submission of applications, a 90-day application period in total, and a deadline of April 4, 2014, for intergovernmental review. We are extending both deadlines by one day.

Catalog of Federal Domestic Assistance (CFDA) Number: 84.129B.

DATES:

Applications Available: November 5, 2013.

Deadline for Transmittal of Applications: February 4, 2014.

Deadline for Intergovernmental Review: April 5, 2014.

FOR FURTHER INFORMATION CONTACT: RoseAnn Ashby, U.S. Department of Education, Rehabilitation Services Administration, 400 Maryland Avenue SW., room 5055, PCP, Washington, DC 20202-2800. Telephone: (202) 245-7258 or by email: roseann.ashby@ed.gov.

SUPPLEMENTARY INFORMATION: On November 5, 2013, the Secretary invited applications for new awards for fiscal year (FY) 2014 under the Rehabilitation Training: Rehabilitation Long-Term Training Program—Vocational Rehabilitation Counseling competition (78 FR 66346). The Rehabilitation Long-Term Training program provides financial assistance for—

(1) Projects that provide basic or advanced training leading to an academic degree in areas of personnel shortages in rehabilitation as identified by the Secretary;

(2) Projects that provide a specified series of courses or program of study leading to the award of a certificate in areas of personnel shortages in rehabilitation as identified by the Secretary; and

(3) Projects that provide support for medical residents enrolled in residency training programs in the specialty of physical medicine and rehabilitation.

The notice inviting applications established a February 3, 2014, deadline for the submission of applications. That same day, because of technical difficulties and to ensure the accuracy of information in the application package, the Department withdrew the application package from the Education Publications Center for a period of 18 hours. To ensure that all interested parties are provided a minimum of 90 days to submit their applications, we are extending the application period for one day to February 4, 2014. Consequently, we are also extending the deadline for intergovernmental review to April 5, 2014. All other information in the November 5, 2013, notice, including the two absolute priorities, remains the same.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: January 23, 2014.
Michael K. Yudin,
Acting Assistant Secretary for Special Education and Rehabilitative Services.

[FR Doc. 2014-01617 Filed 1-27-14; 8:45 am]

BILLING CODE 4000-01-P